LEGAL SERVICES CORPORATION

Grants Cooperative Agreements; Availability etc.: Civil Legal Services to Poor—Various States

AGENCY: Legal Services Corporation.

ACTION: Program Letters 98-1 and 98-6 regarding statewide planning and Grant Assurances for FY2001.

SUMMARY: Program Letters 98-1 and 98-6 regarding statewide planning were issued in 1998 to solicit input on and assist recipients of Legal Services Corporation funding in improving the delivery of legal services to low-income persons. Recipients of such funding must also agree to the Grant Assurances for FY2001 as part of the competitive bidding process.

EFFECTIVE DATE: June 26, 2000. Comments must be submitted on or before this date.

FOR FURTHER INFORMATION CONTACT: Comments should be submitted to Victor M. Fortuno General Counsel, Office of Legal Affairs, Legal Services Corporation, 750 First Street, NE, Washington, DC 20002-4250; 202-336-8800.

SUPPLEMENTARY INFORMATION: In 1998 the Legal Services Corporation (LSC) issued Program Letters 98-1 and 98-6 to all LSC recipients. These program letters solicited input from LSC recipients on improving the delivery of legal services to low-income persons through statewide planning and coordination among LSC recipients. These letters are also available via the Internet at ­http://ain/ainboard/RFP/Appxcvr.htm in Appendix I. Although not required to publish these documents, LSC has decided to do so. Statewide planning has become an increasingly important aspect of the delivery of legal services to low-income persons.

All recipients of LSC funding must agree to the Grant Assurances. This document is also available via the Internet at http://ain/ainboard/ainboard.htm under Application Forms. The Grant Assurances addresses the recipient's agreement to comply with all applicable laws, rules, regulations, guidelines, instructions, etc. and to cooperate fully with all auditing, monitoring and compliance activities and requirements. Although not required to publish this document, LSC has decided to do so.

Comments received by LSC regarding these documents will be considered as part of LSC's ongoing process of evaluating the best means of delivering legal services to low-income persons and ensuring LSC recipient compliance with all applicable laws, rules, regulations, guidelines, instructions, etc.

Victor M. Fortuno,
Vice President for Legal Affairs and General Counsel.

Program Letter 98-1, February 12, 1998, State Planning

Summary

This Program Letter calls upon all LSC recipients to participate in a state planning process to examine, from a statewide perspective, what steps should be taken in their states to develop further a comprehensive, integrated statewide delivery system. State planners should evaluate whether all programs are working in a coordinated fashion to assure that pressing client needs are being met, that sufficient capacities for training and information sharing exist, that programs are moving forward together on technology, and are collaborating to increase resources and develop new initiatives to expand the scope and reach of their services.

In states with a number of LSC-funded programs and/or the presence of very small programs, a key question to be answered is whether the current structure of the state delivery system, and specifically the number of programs, constitutes the most effective and economical way to meet client needs throughout the state.

The state planning process should develop a report to be submitted to LSC on or before October 1, 1998. We will be guided by your recommendations when making our funding decisions for FY 1999 and beyond.

Background

1995 Program Letter. In July 1995, in anticipation of Congressional action on LSC's 1996 appropriation, we asked recipients in each state to participate in the development of a plan for the design, configuration and operation of LSC-funded programs in the state. In view of potential LSC funding cuts and Congressional restrictions on client services, we were especially concerned that recipients work closely with other stakeholders (e.g., state and local bar associations, IOLTA funders, the judiciary, client groups, non-LSC-funded programs, and others with an interest in legal services) to develop an integrated delivery system to address client needs. A subsequent August 1995 Program Letter outlined the issues and criteria the state planning process should address. Included were integration of LSC-funded programs into a statewide legal services system; advisability of consolidation of programs; consideration of efficient intake and provision of advice and brief service; appropriate use of technology; engagement of pro bono attorneys; and development of additional resources.

Responses to Changes in Laws Affecting Clients and LSC Recipients. Much has occurred since August 1995. Fundamental changes have been made in laws and programs affecting eligible clients—changes which have increased clients—need for legal information, advice, and representation. At the same time, LSC appropriation measures have resulted in deep funding cuts for many programs, elimination of LSC funding of national and state support entities, and dramatic changes in the range of services LSC recipients are permitted to perform. In response, many states have initiated planning processes, developed new partnerships to leverage resources, expanded funding sources, implemented new technologies, and launched innovative methods for serving clients.

Efforts to develop and strengthen comprehensive delivery systems in order to improve and expand client services continue in many states. Equal Justice Commissions, Bar sponsored committees, and organizations of legal services providers continue to explore ways to maximize services in a changed and changing environment. LSC supports these ongoing state efforts and encourages others.

1998 Grant Decisions. In the 1998 LSC grant competition, we determined that grants in several states that were eligible for three year funding should be made for a shorter period. For North Carolina, grants were made for one year. For New York, New Jersey, Pennsylvania and Virginia, grants were made for two years. The decision to award grants for a shorter period was made for two reasons: (1) To encourage recipients in these states to develop further their plans for a comprehensive, integrated statewide delivery system; and, (2) concern that the number of LSC-funded programs in these states may not constitute the most economical and effective configuration for delivering legal services to the low-income community.

1998 Program Letter. This Program Letter calls upon all recipients to re-examine and adjust as necessary their state delivery plans in order to further improve and expand legal services to eligible clients within the state.

A Comprehensive, Integrated Statewide Delivery System

In re-evaluating delivery plans, recipients should examine the progress they have made in the past two and one half years in developing a comprehensive, integrated statewide delivery system. Careful planning and coordination is necessary to insure that pressing legal needs do not go unmet and that resources are used wisely and economically. States must continue to innovate and develop new strategies and alternative delivery models to make the most of scarce resources—to reach more clients, and to provide higher quality services through enhanced use of information technology; centralized intake systems providing advice, brief services, and referrals; expansion of community legal education, pro se, and other methods promoting client self-help; better coordination with volunteer private attorneys; and other, similar initiatives requiring substantial resources and expertise to undertake.

There are many ways for states to achieve these goals. Many excellent models exist of statewide fundraising, integrated technology, statewide and regional hotlines, pro se projects, taskforces and training. Recipients should evaluate which approaches will work best in their states to achieve an even stronger, more effective system for addressing client needs.

Recipients must also examine how the present configuration of programs, and specifically the number of programs, impacts upon the overall effectiveness of the state delivery system. In this regard, it is especially important that each participant look at client services, not from the view of just one city, or one county, or one program, but from a statewide perspective.

What Is Required by This Letter

In the past two and one half years, several states have undertaken extensive processes to evaluate their delivery systems and have implemented, or are in the process of implementing, many state planning recommendations. Additionally, some states have ongoing planning processes involving a wide variety of stakeholders in the civil justice system. We do not intend such states to repeat past, or supplant current processes. Instead, we ask recipients to either work within ongoing processes or develop new ones appropriate to the situation in each state. In either case, we hope recipients and other stakeholders will view this process as an opportunity to join together to strengthen the delivery system and improve and expand services to clients.

In this context we call upon each LSC-funded program to share responsibility for ensuring that a statewide planning process, whether ongoing or to be initiated, addresses the questions discussed further below. For each question state planners should:

• Assess the strengths and weaknesses of the current approach;

• Establish goals to strengthen and expand services to eligible clients; and

• Determine the major steps and a timetable necessary to achieve those goals.

A report should be submitted to LSC on or before October 1, 1998. ¹ If a state has recently developed a plan which addresses the substance of one or more of the following questions, for those questions, the state need only report on the pertinent section(s) of that plan.

¹ LSC will provide guidance at a later date on the format for this report.

In exceptional cases, it may not be possible for a state planning process to fully address all of the following questions. In such cases, recipients should contact the LSC staff member responsible for their state.

The questions to be addressed are:

1. How are intake and delivery of advice and referral services structured within the state? What steps can be taken to ensure a delivery network that maximizes client access, efficient delivery, and high quality legal assistance?

2. Is there a state legal services technology plan? How can technological capacities be developed statewide to assure compatibility, promote efficiency, improve quality, and expand services to clients?

3. What are the major barriers low-income persons face in gaining access to justice in the state? What efforts can be taken on a statewide basis to expand client access to the courts, provide preventive legal education and advice, and enhance self-help opportunities for low-income persons?

4. Do program staff and pro bono attorneys throughout the state receive the training and have access to information and expert assistance necessary for the delivery of high quality legal services? How can statewide capacities be developed and strengthened to meet these needs?

5. What is the current status of private attorney involvement in the state? What statewide efforts can be undertaken to increase the involvement of private attorneys in the delivery of legal services?

6. What statewide financial resources are available for legal services to low-income persons within the state? How can these resources be preserved and expanded?

7. Where there are a number of LSC-funded programs and/or the presence of very small programs, how should the legal services programs be configured within the state to maximize the effective and economical delivery of high quality legal services to eligible clients within a comprehensive, integrated delivery system?

1. Intake and the Provision of Advice and Brief Services

How are intake and delivery of advice and referral services structured within the state? What steps can be taken to ensure a delivery network that maximizes client access, efficient delivery, and high quality legal assistance?

A successful intake system is critical to effective and comprehensive delivery of legal services. Over the past two years many programs have instituted centralized telephone intake and delivery systems which provide high quality advice and brief service assistance, and promptly refer clients whose problems require more assistance to program case handlers or other resources. In a number of states, statewide or regional systems, using advanced telephone and computer technology, have consolidated these functions in one location where trained, experienced staff provide prompt access for clients and minimize the risk of multiple referrals or loss of clients. These systems improve the quantity and quality of advice, brief service and referral assistance while increasing the number of extended service cases which can be handled by the program.

State planners should evaluate the current status of intake and delivery of advice and referral services within the state and develop strategies for improvement. Consideration should be given to developing regional and statewide intake and delivery systems which:

• Are client-centered, providing ease of access to legal services and prompt, high quality assistance or referral;

• Use specialization to enhance case evaluation and provision of advice, brief service and referral assistance;

• Make effective use of technology; and

• Provide oversight and follow-up to ensure high quality legal services and client satisfaction. .

2. Effective Use of Technology

Is there a state legal services technology plan? How can technological capacities be developed statewide to assure compatibility, promote efficiency, improve quality, and expand services to clients?

Within individual programs, effective use of technology can reduce the cost and substantially enhance the quality of services. Collectively, technology can dramatically improve the capacity of staff throughout the state to quickly exchange and share information, improving their ability to stay current with the law, develop legal strategies, write briefs and otherwise serve clients. In the past two years, many programs have significantly increased their technological capacities. On a statewide level, programs have used new technologies to establish E-mail communication with all legal services staff throughout the state; to connect with other service providers; to exchange information with private attorneys participating in PAI efforts; to establish centralized brief/pleadings/forms/manuals/ information banks; to create resource centers for information on state law and policy developments; and to establish unified case management systems which allow for data collection and outcome measures. New technologies involving the Internet and advanced telephone and computer applications have also been used to provide legal and program resource information to clients.

Improving and staying current with technology is costly and makes it all the more important that states take a unified approach and develop a technology plan that will maximize collective capacity while minimizing cost. A state technology plan should establish reasonable goals and set forth steps to:

• Assure that all programs have networked computer access for all staff; integrated case management; computerized timekeeping; E-mail and the ability to electronically transfer documents; computerized financial management systems; and technological support;

• Develop or improve compatible technological capacities which will allow all staff, statewide, to communicate with each other, share information, and take advantage of other efficiencies made possible by computerization; and

• Use new technologies to provide legal and program resource information to clients and other interested persons.

3. Increased Access to Self-Help and Prevention Information

What are the major barriers low-income persons face in gaining access to justice in the state? What efforts can be taken on a statewide basis to expand client access to the courts, provide preventive legal education and advice, and enhance self-help opportunities for low-income persons?

Pro se, community legal education and access to courts efforts have great potential to address many of the legal needs of low-income persons. Programs in many states utilize these methods to increase legal information available to the public, empower clients to advocate on their own behalf, and increase access to the courts for all low-income people. Given the intensive effort required to implement such strategies, and the influence state laws and rules have on such initiatives, often these results can be realized more easily by coordinated state level efforts. In several states, for example, collaboration with state bar committees and state judicial administrations has resulted in rule changes, publication of pro se oriented materials and more accessible court systems. Likewise, the development of self-help and community legal education materials has benefitted from concerted statewide efforts involving a variety of organizations working to make justice more accessible.

State planners should evaluate the status of pro se, community legal education, and access efforts in their state and determine what steps should be taken statewide to enhance their effectiveness in meeting client needs. Consideration should be given to:

• Statewide coordination and/or production of pro se and community education materials, such as brochures in multiple languages, videos, cable-access TV programs, and projects designed to take advantage of new technologies such as computerized pro se programs and the world wide web; and

• State level initiatives, including efforts with bar associations, the judiciary and other interested parties to increase access to the courts.

4. Capacities for Training and Access to Information and Expert Assistance

Do program staff and pro bono attorneys throughout the state receive the training and have access to information and expert assistance necessary for the delivery of high quality legal services? How can statewide capacities be developed and strengthened to meet these needs?

In the last two years several states have developed new or strengthened existing capacities to ensure that staff and pro bono attorneys throughout the state receive necessary training and have access to information and expert assistance essential for the delivery of high quality legal services. These states employ a variety of methods to provide staff and pro bono attorneys with training on substantive law and skills development, practice manuals and related poverty law materials, information on poverty law developments and strategies, and co-counseling for less experienced staff and pro bono attorneys. Communication, planning and ongoing discussion concerning major legal needs, poverty law developments, effectiveness of approaches, and commonalities in legal work, helps ensure productive use of resources. The use of new technologies has helped maximize the effectiveness of these efforts.

State planners should evaluate current capacities for the provision of training and related services essential for the delivery of high quality legal services. Planners should:

• Assess how a statewide approach can address the needs for these services of staff and pro bono attorneys throughout the state; and

• Determine the steps necessary to provide these services as effectively and efficiently as possible.

5. Engagement of Pro Bono Attorneys

What is the current status of private attorney involvement in the state? What statewide efforts can be undertaken to increase the involvement of private attorneys in the delivery of legal services?

In the past two years, several states have been successful in enlisting or re-enlisting the state Bar, the judiciary and others in developing and supporting private attorney involvement throughout the state. These efforts have helped local private attorney involvement programs expand participation rates and the range and types of services available to clients. State planners should evaluate the current status of private attorney involvement in the state and consider how statewide strategies can increase engagement of pro bono attorneys and benefit clients throughout the state, including areas of the state with lower private attorney involvement.

Consideration should be given to:

• Renewed efforts to involve the Bar, the judiciary and other leaders in the legal community in promoting private attorney involvement;

• Providing greater opportunities for attorney participation in a full spectrum of legal work, including advice and brief service, negotiation, administrative representation, pro se classes, transactional assistance, and simple and complex litigation;

• Providing greater opportunities for attorneys to assist programs with training, co-counseling and mentoring staff; and

• Providing greater opportunities for law schools, corporate counsel, government attorneys, and other professionals to engage in pro bono activities.

6. Development of Additional Resources

What statewide financial resources are available for legal services to low-income persons within the state? How can these resources be preserved and expanded?

In the past two years, many programs have increased the resources available to them through innovative grant projects, local fundraising and other efforts. Even more dramatic, however, are the increases programs have received in many states through collective development and/or expansion of statewide revenues such as state appropriations, filing fee surcharges, state fundraising campaigns, state bar dues checkoffs and direct state bar grants. Whether new or expanded, these revenues have almost always been the product of thoughtful planning with programs and other stakeholders working together.

State planners should evaluate the possibilities for further statewide resource development and develop a statewide strategy to preserve, build, and/or create new financial and non-financial resources in their state. Since program efforts to build such statewide resources are more successful when many stakeholders participate, it is especially important for planners to involve a variety of community leaders in these efforts.

7. Configuration of a Comprehensive, Integrated Statewide Delivery System

Where there are a number of LSC-funded programs and/or the presence of very small programs, how should the legal services programs be configured within the state to maximize the effective and economical delivery of high quality legal services to eligible clients within a comprehensive, integrated delivery system?

In most states, the present delivery structure reflects national funding decisions made in the 1970's. In many states, those decisions were not determined by analysis of what delivery structure would yield the most economical and effective services to clients throughout the state. Moreover, those decisions were made before such major developments in legal services delivery such as IOLTA funding, private attorney involvement, law school clinical programs, hotlines, the emergence of other civil legal aid providers, and restrictions on recipients' non-LSC funds; and before the information revolution and the opportunities it presents with personal computers, E-mail, sophisticated telephone technology, and the Internet. In light of developments over the past twenty-five years, and especially since 1995, it is time to take a fresh look and re-evaluate those structures.

Re-evaluation is particularly critical in states with a number of LSC-funded programs and/or the presence of very small programs. States with many programs often suffer from uneconomical and inefficient redundancy of effort, or no effort at all, in technology, training, fundraising, and development of client services such as intake, advice and referral systems or client education materials. Similarly, small programs often lack the resources necessary to develop proper staff supervision or appropriate specialization, or to acquire current technology necessary for maximum effectiveness.

In addition, while individual programs may excel, a large number of programs or the presence of small programs may result in unnecessary diversion of the state's resources from client services to administrative overhead. Each program, no matter how large or small, must devote significant resources to A-133 audits, state and federal tax and wage reports, funding applications, recordkeeping, personnel policies, purchase and maintenance of technology and equipment, and other administrative tasks. Experienced and accomplished lawyers spend time on program administration when they could be using their talents to represent clients, train or mentor new lawyers and otherwise lead their program's legal work.

Where these conditions exist, state planners must consider whether consolidation of programs would make better use of resources available in the state.

There is no magic number of programs or a single delivery model that fits all states. In some states, a statewide LSC provider makes the most sense; in others, a regional approach or other configuration may be appropriate. Each state must examine what configuration, from a statewide perspective, maximizes services and benefits for clients throughout the state. Factors to be considered include:

• Size, complexity, cultural and ethnic diversity/homogeneity of client population.

• Geographic, physical, and historical distinctions and affinities within the state.

• Variation in local client needs and ability to respond and set priorities accordingly.

• Assessments of programs' performance and capacity to deliver effective and efficient legal services in accordance with LSC and other professional criteria.

• Ease and efficiency of client access to services and opportunities for improvement.

• Capacity to efficiently and effectively conduct community legal education, pro se and outreach activities.

• Level, uniformity, and plans for further development of technological capacity.

• Current levels of private bar involvement and potential for expansion.

• The availability of training, expert assistance, and information about legal developments.

• Current funding sources and potential to expand resources available to all programs.

• Cultural and ethnic diversity of program leadership and management.

• Relative costs associated with fiscal and administrative responsibilities and potential savings in management, board and administrative costs.

In making grants for FY 1999 and beyond, we will look closely at each state where there is currently a number of LSC-funded programs and/or the presence of very small programs to assess whether careful consideration has been given to consolidation of LSC programs. We hope, and have faith, that in these states, this planning process will result in plans for merger and consolidation of programs and integration of services on a broader scale than we have previously seen, and that each state's plan will result in a configuration that is efficient and effective in providing access to justice for the state's low-income clients.

Questions

LSC staff will be contacting recipients to discuss this Program Letter. In the meantime, if you have questions, please contact the LSC staff member responsible for your state.

Program Letter 98-6, July 6, 1998, State Planning Considerations

Introduction

On February 12, 1998, the Corporation issued Program Letter 98-1 calling upon all LSC recipients to participate in a state planning process to examine, from a statewide perspective, what steps should be taken in their states to further develop a comprehensive, integrated statewide delivery system. The Letter poses seven questions recipients are to address in their planning processes and requests recipients to submit a report to LSC on or before October 1, 1998. Many recipients have asked LSC to provide further guidance and additional information about how the state planning process will affect LSC grant decisions. Recipients have also inquired about the format for the October 1 report. This Program Letter responds to these requests.

State Planning Considerations

The attached State Planning Considerations have been developed to provide recipients and other stakeholders with more information about statewide goals, capacities and approaches recipients should consider in their planning processes. A number of other sources of information that may assist state planners and upon which these Considerations draw are referenced in the Planning Considerations. We hope these Planning Considerations will help states develop effective plans to strengthen their delivery systems and services to clients. We encourage recipients with any questions about the State Planning Considerations or planning process to contact the LSC staff member responsible for their state.

How the State Planning Process Will Affect LSC Grant Decisions

The Corporation is directed under the LSC Act to “insure that grants and contracts are made so as to provide the most economical and effective delivery of legal assistance to persons in both urban and rural areas.” ² The state planning process will provide information that helps LSC exercise this statutory responsibility.

² Legal Services Corporation Act, Section 1007(a)(3).

1. Competition

a. Duration of Grants

The state planning process will provide information that helps LSC determine the duration of grants for service areas in the 1999 competition, i.e., service areas that are eligible for grants of up to three years commencing January 1, 1999.

In the 1998 LSC grant competition, we determined that grants in several states that were eligible for three year funding would be made for a shorter period. The decision to award grants for a shorter period was made for two reasons: (1) To encourage recipients in these states to develop further their plans for a comprehensive, integrated statewide delivery system; and (2) concern that the configuration of LSC-funded programs in these states did not constitute the most economical and effective structure for delivering legal services to the low-income community.

As with the 1998 competition, LSC will take into account state delivery plans and configuration of programs in determining the duration of grants for service areas now being competed. Where LSC believes states need to further develop their plans for a comprehensive, integrated statewide delivery system or where LSC remains concerned about the configuration of LSC-funded service areas, grants will be made for less than three years.

b. Service Areas

1. 1999 Competition

The state planning process will not affect decisions about the number, size or configuration of service areas in competition this year.

2. 2000 and Future Competition Years

Information received through the planning process will affect future decisions regarding the most appropriate number, size and configuration of LSC-funded service areas to be competed for the year 2000 and beyond. This includes service areas that become scheduled for those years because of one or two year grant awards made in the present 1999 competition.

2. Grant Renewals

The state planning process will not affect decisions about the number, size or configuration of service areas up for renewal or the duration of grant renewals, i.e., previously made multi-year awards which are now up for renewal. Decisions on renewal of these grants will continue to be based upon a showing of the renewal applicant's continued ability “to perform the duties required under the terms of its grant.” ³

³ 45 CFR 1634.11.

Format for the October 1 Report

The attached Instructions for State Planning Reports provide information about the structure and format of the reports due at LSC on or before October 1, 1998. Please contact the LSC staff member responsible for your state if you have any questions.

Instructions for State Planning Reports

Please submit reports to the Office of Program Operations on or before October 1, 1998. Reports should be no longer than 35 pages and should contain the name and telephone number of a contact person(s). The report should:

A. Briefly describe the state planning process and participants.

B. Address the following areas in the order presented. In addressing each area, please consider LSC's State Planning Considerations and:

• Assess the strengths and weaknesses of the current approach;

• Establish goals to strengthen and expand services to eligible clients; and

• Determine the major steps and a timetable necessary to achieve those goals.

1. Intake, Advice and Referral

How are intake and delivery of advice and referral services structured within the state? What steps can be taken to ensure a delivery network that maximizes client access, efficient delivery, and high quality legal assistance?

2. Technology

Is there a state legal services technology plan? How can technological capacities be developed statewide to assure compatibility, promote efficiency, improve quality, and expand services to clients?

3. Access to the Courts, Self-Help and Preventive Education

What are the major barriers low-income persons face in gaining access to justice in the state? What efforts can be taken on a statewide basis to expand client access to the courts, provide preventive legal education and advice, and enhance self-help opportunities for low-income persons?

4. Coordination of Legal Work, Training, Information and Expert Assistance

Do program staff and pro bono attorneys throughout the state receive the training and have access to information and expert assistance necessary for the delivery of high quality legal services? How can statewide capacities be developed and strengthened to meet these needs?

5. Private Attorney Involvement

What is the current status of private attorney involvement in the state? What statewide efforts can be undertaken to increase the involvement of private attorneys in the delivery of legal services?

6. Resource Development

What statewide financial resources are available for legal services to low-income persons within the state? How can these resources be preserved and expanded?

7. System Configuration

How should the legal services programs be configured within the state to maximize the effective and economical delivery of high quality legal services to eligible clients within a comprehensive, integrated delivery system? ⁴

⁴ States with only one LSC-funded program need not answer this question.

Form C—Assurances 2001 LSC Grant Competition

If applicant is successful and receives an LSC grant or contract,

Applicant Hereby Assures and Certifies That:

1. It will comply with the Legal Services Corporation Act of 1974 as amended (LSC Act), and any applicable appropriations acts and any other applicable law, all requirements of the rules and regulations, policies, guidelines, instructions, and other directives of the Legal Services Corporation (Corporation or LSC), including the LSC Audit Guide for Recipients and Auditors, the Accounting Guide, the CSR Instruction Handbook and with any amendments of the foregoing adopted before or during the period of this grant. It understands that successful applicants may be expected to sign further assurances before the awarding of the grant.

2. It will not use funds received from a source other than the Legal Services Corporation for any activity inconsistent with the requirements of Public Law 106-113, Public Law 105-277, Public Law 105-119 and Public Law 104-134.

3. If the Applicant is a non-profit organization, its governing board will set specific priorities in writing, consistent with the requirements of 45 CFR Part 1620.

4. It agrees to be subject to all provisions of federal law relating to the proper use of federal funds listed in 45 CFR 1640.2(a)(1). Before the initiation of the contract, the Applicant 's employees and board members will have been informed of the federal law and its consequences as required in 45 CFR 1640.3.

5. It has the legal authority to apply for and receive a grant from the Legal Services Corporation.

6. It will provide legal services in accordance with the plans set out in its grant application, as modified in further negotiations with the Corporation, and agrees to provide high quality, economical, and effective legal assistance, as measured by generally accepted professional standards, the provisions of the LSC Act, or a rule, regulation or guidance issued by the Corporation.

7. It will not discriminate on the basis of race, color, religion, gender, age, disability, national origin, or any other basis prohibited by law against: (1) Any person applying for employment or employed by the Applicant; or (2) any person seeking assistance from the Applicant or other program(s) supported in whole or in part by this grant.

8. It will provide the Corporation with copies of the following policies applicable to the employees, partners, and applicants for employment funded in whole or in part under this grant: its Equal Opportunity Policy Statement, including its Complaint Review Procedure or internal means of handling employee grievances; and its Sexual Harassment Policy, including an effective complaint procedure. Each of these will have been reviewed and approved by its governing or policy board within the last three years. It will notify the Corporation prior to the implementation of changes to its Equal Opportunity Policy Statement.

9. Notwithstanding grant assurance number 10 below, and § 1006(b)(3) of the LSC Act, 42 U.S.C. 2996e(b)(3), it shall make available financial records, time records, retainer agreements, client trust fund and eligibility records, and client names, except for those reports or records subject to the attorney-client privilege, to the Corporation and any federal department or agency that is auditing or monitoring the activities of the Corporation or of the Applicant and any independent auditor or monitor receiving federal funds to conduct such auditing or monitoring, including any auditor or monitor of the Corporation.

10. It will cooperate with all reasonable and necessary information collection, including surveys, questionnaires, monitoring, audit, case statistical report (CSR) data, compliance and evaluation activities undertaken by the Corporation or its agents. During normal business hours it will give any authorized representative of the Corporation or the Comptroller General of the United States access to and copies of all original records, books, papers and documents pertaining to the grant in its possession, custody or control, except for that properly subject to the attorney-client privilege, applicable rules of professional responsibility or attorney work product which may be withheld to the extent consistent with grant assurance 9 above. Access must be provided to materials with information otherwise available in the public record (e.g. pleadings filed in open court) and to program financial records (e.g. negotiable instruments, vendor files, travel records, journals and ledgers.) It agrees to provide the Corporation with the requested materials in a form that meets the Corporation's need for information and, to the extent possible, protecting the reasonable personal privacy interests of its staff members. Should it withhold records or information on these grounds, it shall disclose the withholding and the basis therefor to LSC. LSC may require the grantee to disclose the information if LSC determines that the justification for withholding it is inadequate. In the event that records are unreasonably withheld, the Applicant will be responsible for all reasonable and necessary expenses related to LSC's efforts necessary to obtain the release of such records. It will not take any retaliatory action against any employee because of any cooperation with or release of information to LSC representatives.

11. It agrees to implement all specific record keeping requirements contained in the LSC Act, regulations, appropriations act, other applicable law, and other applicable LSC directives and to implement, as required, any additional specific record keeping requirements that may be forthcoming from the Corporation during the grant period.

12. It will give written notice to the Corporation within thirty (30) calendar days after any of the following occurrences which involve activities funded by the grant:

a. A decision to close and/or relocate any main or staffed branch office;

b. Change of Chairperson of the governing/policy body;

c. Change of chief executive officer;

d. Change in its Charter, Articles of Incorporation, By-laws or governing body structure;

e. Receipt of any notice of a claim for attorneys' fees under the provisions of § 1006(f) of the LSC Act, 42 U.S.C. § 2996e(f). The Applicant will also forward, upon receipt, a copy of the pleading requesting these attorneys' fees; or

f. Change in the Independent Public Accountant performing the grantee's annual financial audit.

13. It agrees that, prior to any merger or consolidation or other change in its current identity or status as a legal entity, it will provide the Corporation with sixty (60) days written notice. If it proposes to transfer its interests in its LSC grant to another entity pursuant to a merger or consolidation, it will seek approval from the Corporation for such transfer and will submit a Successor in Interest Agreement for approval by the Corporation.

14. In the event that the applicant ceases to be a recipient of LSC grant funds during the 2001 grant term for whatever reason,

a. It agrees to provide the Corporation with written notice at least sixty (60) days before the Applicant voluntarily ceases to be a recipient of LSC grant funds during the term of this grant.

b. It will submit to the LSC, Office of Program Performance, at the time that it provides the written notice in (a) above that it is voluntarily ceasing to be a recipient of LSC grant funds or within fifteen (15) days from being notified by LSC that it will cease to be a recipient of LSC grant funds, a plan for the orderly conclusion of the role and responsibilities of the applicant as a recipient of LSC funds. The plan should describe:

1. The immediate transition planning with the new provider, particularly as related to intake, accounting of all open cases (including PAI cases) and transfer of existing cases and contracts;

2. The disposition of the recipient's fund balance, if any, pursuant to 45 CFR Part 1628. The applicant understands that the LSC fund balance amount, including any derivative income from LSC-funded activities which exceeds the 10-25 percent threshold amount pursuant to 45 CFR Section 1628.3(d), unless waived by LSC in writing, shall be returned to the Corporation;

3. An accounting of all real property purchased in whole or in part with LSC funds. The applicant understands and agrees to abide by any agreement it has with the Corporation governing the purchase of real property in whole or in part with LSC funds. The accounting should include:

i. The address and a brief description of the property and the date it was acquired;

ii. The total amount of funds expended to acquire or improve the property, including principal and interest payments, and payment for capital improvements;

iii. The total amount of LSC funds expended to acquire or improve the property, including principal and interest payments, and payment for capital improvements;

iv. The fair market value of the property;

v. A statement indicating the program's plans for disposing of the property; and

vi. Copies of any agreements or contracts governing the disposition of the property.

4. The total costs associated with cessation of LSC funding, and funds available to meet those costs, supported by a budget detailing the planned close out expenditures, and plans for securing payment or reimbursement due under contract from non-LSC sources; and

5. An accounting of all personal/non-expendable property purchased in whole or in part with LSC funds, which has a current book or market value exceeding $1,000. The accounting list should include for each item of property:

i. A brief description of the property item;

ii. The date of acquisition of the property item;

iii. The total amount of funds expended to acquire the property;

iv. The amount of LSC funds expended to acquire the property;

v. The fair market value of the property;

vi. A plan for disposing of all such property, pursuant to the 1981 Property Management Manual for LSC Programs or its duly adopted successor; and

vii. If the property is to be transferred, an assurance that the program, acquiring the property, will use the property in connection with the delivery of legal assistance to low-income persons.

c. It shall certify at the time it submits the plan in (b) above that an Independent Public Accountant will audit the recipient's 2000 financial statements, internal controls and compliance with applicable laws and regulations in accordance with the LSC Audit Guide for Recipients and Auditors and Government Auditing Standards. It shall submit to LSC's Office of the Inspector General an engagement letter from its Independent Public Accountant that includes an estimate of the LSC-funded portion of the total estimated audit cost for FY 2000 under section 509(c) of Public Law 104-134, as incorporated by Public Law 105-277 and Public Law 106-113.

d. It shall certify at the time it submits the plan in (a) above that it will submit Grant Activity Reports in a format specified by the Corporation in a timely manner;

e. It shall participate in an orderly and professional transition of functions to the new provider to deliver services in the service area; and

f. The recipient understands and agrees that, after it gives notice to LSC or after receipt of notice from LSC of the cessation of funding, the receipt of all future installments after such notice shall be contingent upon satisfactory completion of all closeout obligations imposed by the Corporation including the obligations described herein.

15. It will give telephonic notice to the LSC Office of Inspector General (OIG) within two (2) working days of the discovery of any information that indicates the Applicant may have been the victim of misappropriation, embezzlement or other theft or loss of any funds (LSC funds, non-LSC funds used for the provision of legal assistance or client funds). Such notice shall be followed by written notice by mail or facsimile within ten (10) calendar days. Written notice of a theft of any property other than funds will be provided to the OIG within ten (10) calendar days from the time of the discovery of the theft. The required notice shall be provided regardless of whether the funds or property are recovered.

16. It will notify the Corporation within twenty (20) days of any of the following arising from an LSC funded activity: a monetary judgment; sanction or penalty entered against the program for matters such as Rule 11 sanctions; malpractice judgments; EEO claims; IRS penalties; penalties arising out of the Americans with Disabilities Act; or voluntary settlement of any similar action or matter; or any other matter which may have a substantial impact on its delivery of services.

17. It understands and agrees that it will arrange for an audit and execute an agreement with its auditor that meets the requirements of LSC's Audit Guide for Recipients and Auditors. The Applicant also understands and agrees that if it fails to have an audit acceptable to LSC 's Office of Inspector General (OIG) in accordance with LSC's Audit Guide for Recipients and Auditors, the following sanctions shall be available to the Corporation as recommended by the Office of Inspector General: (1) Disallowance of the cost of the audit as a charge against LSC funds; (2) the withholding of a percentage of the recipient's funding until the audit is completed satisfactorily; and (3) the suspension of the recipient's funding until an acceptable audit is completed.

18. It shall cooperate with the Corporation in the Corporation's efforts to follow up on the reportable conditions, findings, and recommendations found by LSC, the Government Accounting Office, and/or the Applicant's independent public accountants to ensure that instances of deficiencies and noncompliance are resolved in a timely manner. Applicant management shall expeditiously resolve all such reported conditions, findings, and recommendations, including those of sub-recipients, to the satisfaction of the Corporation.

19. It understands that the LSC Office of Inspector General may remove, suspend or bar an independent public accountant, upon a showing of good cause and after notice and an opportunity to be heard.

20. It certifies that it has a computer that meets or exceeds the following specifications: Pentium/266mhz, or equivalent computer system, 64 megabytes of Random Access Memory; 4 gigabyte hard disk drive; color monitor; Internet access; and Netscape 4.7 or Internet Explorer 5.0 browser.

The applicant certifies that it has, or will obtain, access to e-mail on each casehandler's desk before December 2001. The applicant further certifies that, by the same deadline, access to the World Wide Web will be available in each office that houses more than three persons. Each staff member will be appropriately trained in the use of applicable software.

21. It will submit, for each year of the grant and for each service area for which a grant is awarded, Grant Activity Reports in a format and at a time determined by the Corporation. If, during the course of the grant year, Grant Activity Reports no longer accurately reflect actual activity (e.g., CSR, budget, and staffing data) of the program, it will revise and resubmit affected Grant Activity Reports to the Corporation.

22. It is aware of and agrees that an award of a multi-year grant under the competitive bidding process does not obligate LSC to disburse any funds that are not authorized or appropriated by Congress nor does it preclude the imposition of additional conditions, by LSC or the Congress, on any funds that are so disbursed. During calendar year 2001, authority for LSC to disburse some of the funds under the grant award may be rescinded by Congress, or sequestered, thereby reducing the actual amount of funds disbursed under the grant. Further, additional restrictions may be imposed on the use of funds as a result of such appropriation, authorization legislation, or other law. In subsequent years, the amount of and conditions upon funding may be changed to conform to Congressional appropriation levels and legislated restrictions. Such changes and reductions, however implemented by the Legal Services Corporation, shall not constitute a termination or suspension.

23. It will maintain during the grant period and for a period of six (6) years from the date of termination of the grant all records pertaining to the grant. With respect to financial records, it will maintain records and supporting documentation sufficient for the Corporation, or an independent auditor selected by the Corporation, to audit those records and determine whether the costs incurred and billed are reasonable, allowable and necessary under the terms of the grant. In this regard, the Applicant will permit the Corporation or its auditor to review the originals of all financial records and supporting documentation, procedures and internal control systems. Additionally, the Corporation retains the right to perform, or engage independent auditors to perform such an audit, whether during or subsequent to the grant period.

24. It shall retain closed client files for a period of not less than five (5) years.

We have read these assurances and conditions and understand that if this application is approved for funding, the grant and all funds derived therefrom will be subject to these assurances. We certify that the Applicant will comply with these assurances if the application is approved.

Name of Executive Director/(or functional equivalent)

Title

Signature

Date

Name of Governing/Policy Board Chairperson (Or other organization official authorizing this application)

Title

Signature

Date

[FR Doc. 00-13189 Filed 5-24-00; 8:45 am]

BILLING CODE 7050-01-P